DEPARTMENT OF VETERANS AFFAIRS

[OMB Control No. 2900-New (VR&E Service)]

Proposed Information Collection (VR&E Employment of Individuals With Severe Injuries Study); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to this notice. This notice solicits comments on information needed to determine whether Vocational Rehabilitation and Employment Service program is meeting the needs of severely disabled veterans.

DATES: Written comments and recommendations on the proposed collection of information should be received on or before July 10, 2009.

ADDRESSES: Submit written comments on the collection of information through Federal Docket Management System (FDMS) at http://www.Regulations.gov; or to Nancy J. Kessinger, Veterans Benefits Administration (20M35), Department of Veterans Affairs, 810 Vermont Avenue, NW., Washington, DC 20420 or e-mail nancy.kessinger@va.gov. Please refer to “OMB Control No. 2900-New (VR&E Service)” in any correspondence. During the comment period, comments may be viewed online through the FDMS.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Vocational Rehabilitation and Employment (VR&E) Service Employment of Individuals with Severe Injuries Study.

OMB Control Number: 2900—New (VR&E Service).

Type of Review: New collection.

Abstract: The mission of the VR&E program is to provide vocational rehabilitation services that will assist veterans to obtain and keep suitable employment consistent with their capabilities and interests or to achieve independence in their activities of daily living. The study will be used to determine whether the VR&E program is meeting the needs of severely disabled veterans and whether rehabilitation services are effective as they can be by identifying the factors that hinder and assist achieving long-term career employment for severely disabled veterans.

Affected Public: Individuals or Households.

Estimated Annual Burden: 200 hours.

Estimated Average Burden per Respondent: 60 minutes.

Frequency of Response: One-time.

Estimated Number of Respondents: 200.

Dated: May 5, 2009.
By direction of the Secretary.
Denise McLamb,
Program Analyst, Enterprise Records Service.

[FR Doc. E9-10798 Filed 5-8-09; 8:45 am]

BILLING CODE A320-01-P